ENVIRONMENTAL PROTECTION AGENCY

[FRL-7645-2]

Second Meeting of the World Trade Center Expert Technical Review Panel to Continue Evaluation on Issues Relating to Impacts of the Collapse of the World Trade Center Towers; Correction

AGENCY: Environmental Protection Agency.

ACTION: Notice of meeting; correction.

SUMMARY: The Environmental Protection Agency published a document in the Federal Register of March 26, 2004, concerning notice of the second meeting of the World Trade Center Expert Technical Review Panel to provide for greater input on ongoing efforts to monitor the situation for New York residents and workers impacted by the collapse of the World Trade Center. The focus of the second meeting is to discuss a draft resampling proposal to evaluate the incidence of recontamination in apartments cleaned in the EPA cleanup effort around the World Trade Center site. The panel will also begin discussing the appropriateness of the use of asbestos as a surrogate measure for other contaminants of concern. The meeting location has changed because the original venue is out of commission due to water damage.

FOR FURTHER INFORMATION CONTACT: For meeting information, registration and logistics, please see the Web site http://www.epa.gov/wtc/panel or contact ERG at (800) 803-2833 or (781) 674-7374. The meeting agenda and logistical information will be posted on the web site and will also be available in hard copy. For further information regarding the technical panel, contact Ms. Lisa Matthews, EPA Office of the Science Advisor, telephone (202) 564-4499.

Correction

In the Federal Register of March 26, 2004, in FR Doc. 04-6826, on page 15832, in the first column, correct the “Address” caption to read:

ADDRESSES: The meeting will be held at the Tribeca Performing Arts Center at Borough of Manhattan Community College, Theatre Two, 199 Chambers Street (between West Side Highway/West Street and Greenwich Street), New York, NY 10007.

Dated: April 6, 2004.
Paul Gilman,
EPA Science Advisor and Assistant Administrator for Research and Development.

[FR Doc. 04-8077 Filed 4-7-04; 8:45 am]

BILLING CODE 6560-50-P